DEPARTMENT OF ENERGY

Federal Energy Regulatory Commission

[Docket No. CP03-75-000]

Freeport LNG Development, L.P.; Notice of Availability of the Final Conformity Determination for the Freeport LNG Project

June 10, 2004.

The staff of the Federal Energy Regulatory Commission has prepared a Final General Conformity Determination to assess the potential air quality impacts associated with the construction and operation of a liquefied natural gas (LNG) import terminal and natural gas pipeline proposed by Freeport LNG Development, L.P. (Freeport LNG), referred to as the Freeport LNG Project, in Docket No. CP03-75-000.

This Final General Conformity Determination was prepared to satisfy the requirements of the Clean Air Act.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

Linda Mitry,
Acting Secretary.

[FR Doc. E4-1374 Filed 6-17-04; 8:45 am]

BILLING CODE 6717-01-P